DEPARTMENT OF ENERGY

Federal Energy Regulatory Commission

Notice of Application Accepted for Filing; Ready for Environmental Analysis; and Soliciting Motions To Intervene and Protests, Comments, Recommendations, Terms and Conditions, and Prescriptions

January 2, 2004.

Take notice that the following hydroelectric applications have been filed with the Commission and are available for public inspection.

a. Type of Applications: New major licenses.

b. Project Nos.: 2130-033, 2118-007, 2005-012, and 2067-020.

c. Dates Filed: P-2130 and P-2118 filed December 26, 2002; P-2005 and P-2067 filed December 23, 2002.

d. Applicants: Pacific Gas and Electric Company, current licensee for P-2130 and P-2118; and Tri-Dam Project, current licensee for P-2005 and P-2067.

e. Names of Projects: Spring Gap-Stanislaus Project No. 2130-033, Donnells-Curtis Transmission Line Project No. 2118-007, Beardsley/Donnells Project No. 2005-012, and Tulloch Project No. 2067-020.

f. Location: On the Middle Fork, South Fork, and mainstem of the Stanislaus River in Tuolumne and Calaveras counties, California. All of the Beardsley/Donnells Project, most of the Spring Gap-Stanislaus Project, and all of the Donnell-Curtis Transmission Line Project are located within the Stanislaus National Forest.

g. Filed Pursuant to: Federal Power Act, 16 U.S.C. 791(a)-825(r).

h. Applicant Contacts: Mr. Randy Livingston, Pacific Gas and Electric Company, P.O. Box 770000, Mail Code: N11C, San Francisco, CA 94117; and Mr. Steve Felte, Tri-Dam Project, P.O. Box 1158, Pinecrest, CA 95364.

i. FERC Contact: Susan O'Brien, susan.obrien@ferc.gov, (202) 502-8449.

j. Deadline for Filing Motions to Intervene and Protests, Comments, Recommendations, Terms and Conditions, and Prescriptions: 60 days from the issuance date of this notice. Reply comments are due 105 days from the issuance date of this notice.

All documents (original and eight copies) should be filed with: Magalie R. Salas, Secretary, Federal Energy Regulatory Commission, 888 First Street, NE., Washington, DC 20426.

The Commission's rules of practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted, and is ready for environmental analysis at this time.

l. The existing Spring Gap-Stanislaus Project is composed of four developments: Relief, Pinecrest, Spring Gap, and Stanislaus. It has a combined capacity of 98 MW.

The existing Donnells-Curtis Transmission Line Project is a 115 kV transmission line. Portions of the transmission line under FERC jurisdiction include an 8-mile segment extending from Donnells Powerhouse to Spring Gap Junction and the 2.2-mile tap line from Beardsley Powerhouse to Beardsley Junction.

The existing Beardsley/Donnell Project is composed of the Beardsley and Donnell Developments and has a combined capacity of 64 MW.

The existing Tulloch Project is composed of a single development and has a capacity of 17.1 MW.

m. Copies of the applications are available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the addresses in item h above.

All filings must (1) bear in all capital letters the title “PROTEST”, “MOTION TO INTERVENE”, “COMMENTS”, “REPLY COMMENTS”, “RECOMMENDATIONS”, “TERMS AND CONDITIONS”, or “PRESCRIPTIONS”; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via email of new filings and issuances related to this or other pending projects. For assistance, contact FERC Online Support.

n. Procedural schedule: The remaining schedule for processing this relicense application is revised as shown below. Revisions to this schedule may be made as appropriate.

Milestone | Target date
Issue scoping document 2 | December 2003
Notice accepting applications and ready for environmental analysis, solicit motions to intervene | December 2003
Issue acceptance letters and request clarification | December 2003
Notice of the availability of the draft EIS document | April 2004
Initiate 10(j) process | May 2004
Notice of the availability of the final EIS document | October 2004
Ready for Commission decision on the application | December 2004

Linda Mitry,
Acting Secretary.

[FR Doc. E4-17 Filed 1-9-04; 8:45 am]

BILLING CODE 6717-01-P